PRIVACY AND CIVIL LIBERTIES OVERSIGHT BOARD

[Notice-PCLOB-2013-06; Docket No. 2013-0005; Sequence No. 7]

Notice of Hearing

AGENCY: Privacy and Civil Liberties Oversight Board (PCLOB).

ACTION: Notice of a hearing.

SUMMARY: The Privacy and Civil Liberties Oversight Board (PCLOB) will conduct a public hearing with current and former government officials and others to address the activities and responsibilities of the executive and judicial branches of the federal government regarding the government's counterterrorism surveillance programs. This hearing will continue the PCLOB's study of the federal government's surveillance programs operated pursuant to Section 215 of the USA PATRIOT Act and Section 702 of Foreign Intelligence Surveillance Act. Recommendations for changes to these programs and the operations of the Foreign Intelligence Surveillance Court will be considered at the hearing to ensure that counterterrorism efforts properly balance the need to protect privacy and civil liberties. Visit www.pclob.gov for the full agenda closer to the hearing date. This hearing was re-scheduled from October 4, 2013, due to the unavailability of witnesses as a result of the federal lapse in appropriations.

DATES: Monday, November 4, 2013; 9:00 a.m.-4:30 p.m. (Eastern Standard Time).

Comments:

You may submit comments with the docket number PCLOB-2013-0005; Sequence 7 by the following method:

• Federal eRulemaking Portal: Go to http://www.regulations.gov. Follow the on-line instructions for submitting comments.

• Written comments may be submitted at any time prior to the closing of the docket at 11:59 p.m. Eastern Time on November 14, 2013. This comment period has been extended from October 25, 2013, as a result of the new hearing date.

All comments will be made publicly available and posted without change. Do not include personal or confidential information.

ADDRESSES: Mayflower Renaissance Hotel Washington, 1127 Connecticut Ave. NW., Washington DC 20036. Facility's location is near Farragut North Metro station.

FOR FURTHER INFORMATION CONTACT: Susan Reingold, Chief Administrative Officer, 202-331-1986. For email inquiries, please email info@pclob.gov.

SUPPLEMENTARY INFORMATION:

Procedures for Public Participation

The hearing will be open to the public. Individuals who plan to attend and require special assistance, such as sign language interpretation or other reasonable accommodations, should contact Susan Reingold, Chief Administrative Officer, 202-331-1986, at least 72 hours prior to the meeting date.

Dated: October 21, 2013.
Diane Janosek,
Chief Legal Officer, Privacy and Civil Liberties Oversight Board.

[FR Doc. 2013-25103 Filed 10-24-13; 8:45 am]

BILLING CODE P